DEPARTMENT OF COMMERCE

National Oceanic and Atmospheric Administration

RIN 0648-XA459

International Whaling Commission; 63rd Annual Meeting; Announcement of Public Meetings

AGENCY: National Marine Fisheries Service (NMFS), National Oceanic and Atmospheric Administration (NOAA), Commerce.

ACTION: Notice of meetings.

SUMMARY: This notice announces the dates, times, and locations of the public meetings being held prior to the 63rd annual International Whaling Commission (IWC) meeting.

DATES: The public meetings will be held June 14 and June 27, 2011, at 12 p.m.

ADDRESSES: The June 14 meeting will be held at Anchorage Federal Building Conference Room B, 222 West 8th Avenue, Anchorage, Alaska 99513. The June 27 meeting will be held in the NOAA Auditorium, 1301 East-West Highway, Silver Spring, MD 20910.

FOR FURTHER INFORMATION CONTACT: Ryan Wulff, 202-482-3689.

SUPPLEMENTARY INFORMATION: The Secretary of Commerce is charged with the responsibility of discharging the domestic obligations of the United States under the International Convention for the Regulation of Whaling, 1946. The U.S. Commissioner has responsibility for the preparation and negotiation of U.S. positions on international issues concerning whaling and for all matters involving the IWC. The U.S. Commissioner is staffed by the Department of Commerce and assisted by the Department of State, the Department of the Interior, the Marine Mammal Commission, and by other agencies.

Once the draft agenda for the annual IWC meeting is completed, it will be posted on the IWC Secretariat's Web site at http://www.iwcoffice.org.

NOAA will hold meetings prior to the annual IWC meeting to discuss the tentative U.S. positions for the upcoming IWC meeting. Because the meeting discusses U.S. positions, the substance of the meeting must be kept confidential. Any U.S. citizen with an identifiable interest in U.S. whale conservation policy may participate, but NOAA reserves the authority to inquire about the interests of any person who appears at a meeting and to determine the appropriateness of that person's participation.

Persons who represent foreign interests may not attend. These stringent measures are necessary to protect the confidentiality of U.S. negotiating positions and are a necessary basis for the relatively open process of preparing for IWC meetings.

The June 14 meeting will be held at Anchorage Federal Building Conference Room B, 222 West 8th Avenue, Anchorage, Alaska 99513, at 12 p.m. The June 27 meeting will be held in the NOAA Auditorium, 1301 East-West Highway, Silver Spring, MD 20910, at 12 p.m. Photo identification is required to enter each building.

Special Accommodations

Both meetings are physically accessible to people with disabilities. Requests for sign language interpretation or other auxiliary aids should be directed to Ryan Wulff, 202-482-3689, by June 10, 2011, for the Anchorage meeting, or by June 20 for the meeting in Silver Spring.

Dated: May 24, 2011.
Rebecca J. Lent,
Director, Office of International Affairs, National Marine Fisheries Service.

[FR Doc. 2011-13258 Filed 5-26-11; 8:45 am]

BILLING CODE 3510-22-P